DEPARTMENT OF HEALTH AND HUMAN SERVICES

Centers for Disease Control and Prevention

National Program to Promote Diabetes Education Strategies in Minority Communities: The National Diabetes Education Program-Amendment

A notice announcing the availability of fiscal year (FY) 2005 funds for RFA 05014 “National Program to Promote Diabetes Education Strategies in Minority Communities: The National Diabetes Education Program” was published in the Federal Register on October 4, 2004, Volume 69, Number 191, pages 59231-59237. The notice is amended as follows: On page 59231, Column 1, under Key Dates, amend dates to reflect Letter of Intent Deadline: November 1, 2004 and Application Deadline: December 6, 2004, and in, Column 3, Section “I. Funding Opportunity Description,” under the purpose, at the end of the last paragraph, add “This announcement is only for non-research activities supported by CDC/ATSDR. If research is proposed, the application will not be reviewed. For the definition of research, please see the CDC Web site at the following Internet address: http://www.cdc.gov/od/ads/opspoll1.htm”, and under Activities, at the beginning of the first paragraph add “The activities below should be implemented in multiple states to be consistent with the purpose and eligibility sections of this program announcement.” On page 59233, Columns 1 and 2, Section “III.1. Eligible Applicants,” replace this section with the following language “Applications may only be submitted by national, regional, or multi-state institutions/organizations that are private health, education or social service organizations (professional or voluntary, have non-profit 501(c)(3) status; have affiliate offices or chapters at the national, regional or multi-state level in five or more geographically diverse communities serving a high concentration of the targeted population and have the capacity and experience to assist their affiliate offices and chapters. This also includes faith-based organizations that are 501(c)(3) entities and federally recognized Indian tribal governments, Indian tribes, or Indian tribal organizations that are considered national, regional or multi-state. Geographically diverse communities must be located in different states. Applicants should consider available resources when determining the population size and the number of geographically diverse communities to include in their proposal. Affiliate and chapter offices may not apply in lieu of or on behalf of their parent national office, institution or organization. However, this does not exclude affiliates from assisting with the development of the application.” On page 59237 Column 1, Section “VII. Agency Contacts,” Change the contact information for the financial, grant management, or business assistance, contact: add “Tracy Sims, Grants Management Specialist, CDC Procurement and Grants Office, 2920 Brandywine Road, Atlanta, GA 30341, telephone (770) 488-2739, e-mail: atu9@cdc.gov. and remove “ Tiffney Esslinger, Grants Management Specialist, CDC Procurement and Grants Office, 2920 Brandywine Road, Atlanta, GA 30341, telephone (770) 488-2686, e-mail: tesslinger@cdc.gov.”

Dated: October 14, 2004.
William P. Nichols,
Acting Director, Procurement and Grants Office, Centers for Disease Control and Prevention.

[FR Doc. 04-23435 Filed 10-19-04; 8:45 am]

BILLING CODE 4163-18-P